DEPARTMENT OF ENERGY

Federal Energy Regulatory Commission

[Docket No. ER01-3122-000, et al.]

Appalachian Power Company, et al.; Electric Rate and Corporate Regulation Filings

October 2, 2001.

Take notice that the following filings have been made with the Commission:

1. Appalachian Power Company

[Docket No. ER01-3122-000]

Take notice that on September 27, 2001, Appalachian Power Company (APCo) submitted for filing with the Federal Energy Regulatory Commission (FERC or Commission) an unexecuted Interconnection and operation Agreement between APCo and Duke Energy Wythe, LLC (Wythe). The agreement is pursuant to the AEP Companies' Open Access Transmission Service Tariff (OATT) that has been designated as the Operating Companies of the American Electric Power System FERC Electric Tariff Revised Volume No. 6, effective June 15, 2000.

APCo requests an effective date of November 26, 2001. Copies of this filing has been served upon Wythe and the Virginia State Corporation Commission.

Comment date: October 18, 2001, in accordance with Standard Paragraph E at the end of this notice.

2. American Electric Power Service Corporation

[Docket No. ER01-3123-000]

Take notice that on September 27, 2001, American Electric Power Service Corporation tendered for filing with the Federal Energy Regulatory Commission (Commission), on behalf of the operating companies of the American Electric Power System, proposed amendments to Attachment P of the Open Access Transmission Tariff.

AEP requests an effective date of November 26, 2001. Copies of AEP's filing have been served upon AEP's transmission customers and the public service commissions of Arkansas, Indiana, Kentucky, Louisiana, Michigan, Ohio, Tennessee, Texas, Virginia and West Virginia and the Oklahoma Corporation Commission.

Comment date: October 18, 2001, in accordance with Standard Paragraph E at the end of this notice.

3. PacifiCorp

[Docket No. ER01-3124-000]

Take notice that PacifiCorp on September 27, 2001, tendered for filing with the Federal Energy Regulatory Commission (Commission) in accordance with 18 CFR 35 of the Commission's Rules and Regulations, a Notice of Filing, and Mutual Netting/Settlement Agreements (Netting Agreements) with Allegheny Energy Supply Company, LLC (Allegheny), Black Hills Generation, Inc. (BHG), Metropolitan Water District of Southern California (MWD), Nevada Power Company (Nevada), Port of Oakland (Oakland), Public Utility District No. 1 of Benton County, Washington (Benton County), Public Utility District No. 1 of Franklin County, Washington (Franklin County), Public Utility District No. 1 of Grays Harbor County, Washington (Grays Harbor County), Sierra Pacific Power Company (Sierra).

Copies of this filing were supplied to the Washington Utilities and Transportation Commission and the Public Utility Commission of Oregon.

Comment date: October 18, 2001, in accordance with Standard Paragraph E at the end of this notice.

4. Progress Energy, Inc., On behalf of Florida Power Corporation

[Docket No. ER01-3125-000]

Take notice that on September 27, 2001, Florida Power Corporation (FPC) filed with the Federal Energy Regulatory Commission (Commission), a Service Agreement with American Electric Power Service Corporation under FPC's Short-Form Market-Based Wholesale Power Sales Tariff (SM-1), FERC Electric Tariff No. 10.

FPC is requesting an effective date of September 1, 2001 for this Agreement.

A copy of this filing was served upon the Florida Public Service Commission and the North Carolina Utilities Commission.

Comment date: October 18, 2001, in accordance with Standard Paragraph E at the end of this notice.

5. IDACORP Energy L.P.

[Docket No. ER01-3126-000]

Take notice that on September 27, 2001, IDACORP Energy L.P. (IDACORP Energy) tendered for filing with the Federal Energy Regulatory Commission (Commission) a Transaction Confirmation Agreement under the Western Systems Power Pool Agreement, between IDACORP Energy and Deseret Generation & Transmission.

Comment date: October 18, 2001, in accordance with Standard Paragraph E at the end of this notice.

6. San Diego Gas & Electric Company

[Docket No. ER01-3127-000]

Take notice that on September 27, 2001, San Diego Gas & Electric Company (SDG&E) tendered for filing with the Federal Energy Regulatory Commission (FERC or Commission) its Service Agreements numbers 11 and 12 to its FERC Electric Tariff, First Revised Volume No. 6, two interconnection agreements. Both agreements relate to the interconnection of a new generation plant to be owned by CalPeak Power—Border, LLC (CalPeak Border). The plant, with a capacity of 49 MW, is being constructed on an expedited basis to meet potential shortfalls in the Western states' electric supplies. It will be located in southern San Diego County, California, and is expected to begin service on or about September 30, 2001.

Service Agreement No. 11 is an Expedited Interconnection Facilities Agreement dated September 24, 2001 between SDG&E and CalPeak Border, under which SDG&E will construct, operate and maintain the proposed interconnection facilities. Service Agreement No. 12, the Interconnection Agreement between SDG&E and CalPeak Border dated September 24, 2001, establishes interconnection and operating responsibilities and associated communications procedures between the parties. SDG&E requests an effective date of September 24, 2001 for both agreements.

SDG&E states that copies of the amended filing have been served on CalPeak Border and on the California Public Utilities Commission.

Comment date: October 18, 2001, in accordance with Standard Paragraph E at the end of this notice.

7. Cinergy Services, Inc.

[Docket No. ER01-3128-000]

Take notice that on September 27, 2001, Cinergy Services, Inc. (Cinergy) tendered for filing with the Federal Energy Regulatory Commission (Commission) a Confirmation Letter under Cinergy's Market-Based Power Sales Standard Tariff-MB (the Tariff) entered into between Cinergy and NewEnergy, Inc. (NewEnergy).

Cinergy and NewEnergy are requesting an effective date of August 31, 2001.

Comment date: October 18, 2001, in accordance with Standard Paragraph E at the end of this notice.

8. Cinergy Services, Inc.

[Docket No. ER01-3129-000]

Take notice that on September 26, 2001, Cinergy Services, Inc. (Cinergy) and Cleco Power LLC are requesting with the Federal Energy Regulatory Commission (Commission), a cancellation of Service Agreement No. 220, under Cinergy Operating Companies, Cost-Based Power Sales Tariff—CB, FERC Electric Tariff Original Volume No. 6.

Cinergy requests an effective date of October 8, 2001.

Comment date: October 18, 2001, in accordance with Standard Paragraph E at the end of this notice.

9. Cinergy Services, Inc.

[Docket No. ER01-3130-000]

Take notice that on September 27, 2001, Cinergy Services, Inc. (Cinergy) and Coastal Merchant Energy, L.P. are requesting with the Federal Energy Regulatory Commission (Commission) a cancellation of Service Agreement No. 51, under Cinergy Operating Companies, Resale of Transmission Rights and Ancillary Service Rights, FERC Electric Tariff Original Volume No. 8.

Cinergy requests an effective date of February 1, 2001.

Comment date: October 18, 2001, in accordance with Standard Paragraph E at the end of this notice.

10. Cinergy Services, Inc.

[Docket No. ER01-3131-000]

Take notice that on September 27, 2001, Cinergy Services, Inc. (Cinergy) tendered for filing with the Federal Energy Regulatory Commission (Commission) a Service Agreement under Cinergy's Resale, Assignment or Transfer of Transmission Rights and Ancillary Service Rights Tariff (the Tariff) entered into between Cinergy and Consumers Energy Company (Consumers). This Service Agreement has been executed by both parties and is to replace the existing unexecuted Service Agreement.

Comment date: October 18, 2001, in accordance with Standard Paragraph E at the end of this notice.

11. Cinergy Services, Inc.

[Docket No. ER01-3132-000]

Take notice that on September 27, 2001, Cinergy Services, Inc. (Cinergy) and Cleco Power LLC are requesting with the Federal Energy Regulatory Commission (Commission) a cancellation of Service Agreement No. 223, under Cinergy Operating Companies, Market-Based Power Sales Tariff—MB, FERC Electric Tariff Original Volume No. 7.

Cinergy requests an effective date of October 8, 2001.

Comment date: October 18, 2001, in accordance with Standard Paragraph E at the end of this notice.

12. Texas-New Mexico Power Company

[Docket No. ER01-3133-000]

Take notice that on September 27, 2001, Texas-New Mexico Power Company (TNMP) tendered for filing with the Federal Energy Regulatory Commission (Commission) a service agreement under its open access transmission tariff for firm Point-to-Point Transmission Service between TNMP and Tri-state Generation and Transmission Association, Inc.

Comment date: October 18, 2001, in accordance with Standard Paragraph E at the end of this notice.

13. Cinergy Services, Inc.

[Docket No. ER01-3134-000]

Take notice that on September 28, 2001, Cinergy Services, Inc. (Cinergy) tendered for filing with the Federal Energy Regulatory Commission (Commission) a First Revised Network Integration Service Agreement under Cinergy's Open Access Transmission Tariff (OATT).

A Copy of the filing was served upon The Village of Blanchester, Ohio.

Cinergy is requesting an effective date of September 1, 2001 and accordingly seeks a waiver of the Commission's notice requirement.

Comment date: October 19, 2001, in accordance with Standard Paragraph E at the end of this notice.

14. MidAmerican Energy Company

[Docket No. ER01-3135-000]

Take notice that on September 28, 2001, MidAmerican Energy Company (MidAmerican), filed with the Federal Energy Regulatory Commission (Commission) an Electric Interchange and Interconnection Agreement dated January 24, 1994, modified by way of a Second Amendment to Electric Interchange and Interconnection Agreement dated August 9, 2001, entered into with Indianola Municipal Utilities, pursuant to MidAmerican's Rate Schedule for Power Sales, FERC Electric Tariff, Original Volume No. 8.

MidAmerican requests an effective date of August 9, 2001 for the Agreement. MidAmerican has served a copy of the filing on Indianola Municipal Utilities and the Iowa Utilities Board.

Comment date: October 19, 2001, in accordance with Standard Paragraph E at the end of this notice.

15. Southern California Edison Company

[Docket No. ER01-3136-000]

Notice is hereby given that on September 28, 2001, Southern California Edison Company tender for filing with the Federal Energy Regulatory Commission (FERC or Commission), FERC Electric Tariff Original Volume No. 5 Service Agreement No. 25, is to be canceled.

Notice of the proposed cancellation has been served upon the Public Utilities Commission of the State of California and AES Placerita, Inc.

Comment date: October 19, 2001, in accordance with Standard Paragraph E at the end of this notice.

16. Arizona Public Service Company

[Docket No. ER01-3137-000]

Take notice that on September 28, 2001, Arizona Public Service Company (APS) tendered for filing with the Federal Energy Regulatory Commission (Commission) a Service Agreement to provide Network Integration Transmission Service under APS' Open Access Transmission Tariff to Pinnacle West Capital Corp. Marketing and Trading (Pinnacle).

A copy of this filing has been served on Pinnacle and the Arizona Corporation Commission.

Comment date: October 19, 2001, in accordance with Standard Paragraph E at the end of this notice.

17. Boston Edison Company

[Docket No. ER01-3138-000]

Take notice that on September 28, 2001, Boston Edison Company (Boston Edison) tendered for filing with the Federal Energy Regulatory Commission (Commission) an executed Related Facilities Agreement between Boston Edison and AES Londonderry, L.L.C. (AES). Boston Edison requests an effective date of November 27, 2001.

Boston Edison states that it has served a copy of the filing on AES and the Massachusetts Department of Telecommunications and Energy.

Comment date: October 19, 2001, in accordance with Standard Paragraph E at the end of this notice.

18. CinCap VII, L.L.C.

[Docket No. ER01-3139-000]

Take notice that on September 28, 2001, CinCap VII, LLC (CinCap VII) tendered for filing with the Federal Energy Regulatory Commission (Commission) a Master Power Sales Agreement under CinCap VII's Market-Based Rate Schedule FERC No. 1, entered into between CinCap VII and Cinergy Capital & Trading, Inc. (CCT).

CinCap VII and CCT are requesting an effective date of September 15, 2001.

Comment date: October 19, 2001, in accordance with Standard Paragraph E at the end of this notice.

19. CinCap Madison, L.L.C.

[Docket No. ER01-3140-000]

Take notice that on September 28, 2001, CinCap Madison, LLC (CinCap Madison) tendered for filing with the Federal Energy Regulatory Commission (Commission) a Master Power Sales Agreement under CinCap Madison's Market-Based Rate Schedule FERC No. 1, entered into between CinCap Madison and Cinergy Capital & Trading, Inc. (CCT).

CinCap Madison and CCT are requesting an effective date of September 15, 2001.

Comment date: October 19, 2001, in accordance with Standard Paragraph E at the end of this notice.

20. American Electric Power Service Corporation

[Docket No. ER01-3141-000]

Take notice that on September 28, 2001, the American Electric Power Service Corporation (AEPSC), tendered for filing with the Federal Energy Regulatory Commission (Commission) eleven Long-Term Firm Point-to-Point Transmission Service Agreements and Specifications for Long-Term Firm Point-to-Point Transmission Service. That filing included 2 unexecuted agreements for Exelon Generating Company, LLC, six executed agreements for Duke Energy North America, LLC, two unexecuted agreements for Consumers Energy Company, and one executed agreement for American Electric Power Service Corporation—Wholesale Power Merchant Organization. All of these agreements are pursuant to the AEP Companies' Open Access Transmission Service Tariff (OATT) that has been designated as the Operating Companies of the American Electric Power System FERC Electric Tariff Second Revised Volume No. 6.

AEPSC requests waiver of notice to permit all of the Point-to-Point Service Agreements and Specifications filed herewith to be made effective for service billed on and after September 1, 2001.

A copy of the filing was served upon the Parties and the state utility regulatory commissions of Arkansas, Indiana, Kentucky, Louisiana, Michigan, Ohio, Oklahoma, Tennessee, Texas, Virginia and West Virginia.

Comment date: October 19, 2001, in accordance with Standard Paragraph E at the end of this notice.

21. Midwest Independent Transmission System Operator, Inc.

[Docket No. ER01-3142-000]

Take notice that on September 28, 2001, the Midwest Independent Transmission System Operator, Inc. (the Midwest ISO) tendered for filing revisions to its Open Access Transmission Tariff (OATT), FERC Electric Tariff, First Revised Volume No. 1, which was previously accepted for filing in Docket No. ER98-1438-000, and which has been reformatted to conform to the requirements of Order No. 614.

The Midwest ISO seeks an effective date of November 27, 2001. The Midwest ISO also seeks waiver of the Commission's regulations, 18 CFR 385.2010 (2000) with respect to service on all parties on the official service list in Docket No. ER98-1438-007. The Midwest ISO has posted its reformatted OATT on its Internet site at www.midwestiso.org, and the Midwest ISO will provide hard copies to any interested parties upon request.

Comment date: October 19, 2001, in accordance with Standard Paragraph E at the end of this notice.

22. Commonwealth Edison Company

[Docket No. ER01-3143-000]

Take notice that on September 28, 2001, Commonwealth Edison (ComEd) filed with the Federal Energy Regulatory Commission (Commission) an executed interconnection agreement enabling a new generation project near University Park, Illinois to connect to ComEd's transmission system. ComEd requested an effective date of September 29, 2001 for this agreement.

Comment date: October 19, 2001, in accordance with Standard Paragraph E at the end of this notice.

23. Exelon Generation Company, LLC

[Docket No. ER-3144-000]

Take notice that on September 28, 2001, Exelon Generation Company, LLC (Exelon Generation), submitted for filing with the Federal Energy Regulatory Commission (Commission) a power sales service agreement between Exelon Generation and The Detroit Edison Company, under Exelon Generation's wholesale power sales tariff, FERC Electric Tariff Original Volume No. 2

Comment date: October 19, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25358 Filed 10-9-01; 8:45 am]

BILLING CODE 6717-01-P